DEPARTMENT OF THE INTERIOR

Bureau of Land Management

[LLIDB00100 LF10000PP.HT0000 LXSS020D0000 241A.0; 4500020463; IDI-34392]

Notice of Realty Action: Recreation and Public Purposes Act Classification; Lease of Public Land in Canyon County, ID

AGENCY: Bureau of Land Management, Interior.

ACTION: Notice of realty action.

SUMMARY: The Treasure Valley Aero Modelers filed an application to lease 40 acres of public land under the Recreation and Public Purposes (R&PP) Act, as amended, to be used for a runway and related improvements for flying radio-controlled model airplanes. The Bureau of Land Management (BLM) has examined the land and found it suitable to be classified for lease under the provisions of the R&PP Act, as amended.

DATES: Interested parties may submit written comments regarding the proposed classification and lease of this public land until July 7, 2011.

ADDRESSES: Mail written comments to Terry A. Humphrey, Four Rivers Field Manager, Bureau of Land Management, Boise District Office, 3948 Development Avenue, Boise, Idaho 83705.

FOR FURTHER INFORMATION CONTACT: Effie Schultsmeier, BLM Four Rivers Realty Specialist, at the above address or via phone at (208) 384-3300. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM has examined and found the following tract to be suitable for lease under the provisions of the R&PP Act, as amended (43 U.S.C. 869 et seq.):

Boise Meridian

T. 6 N., R. 5 W.,

Sec. 27, SW¼ NE¼.

The area described contains approximately 40 acres in Canyon County.

In accordance with the R&PP Act, the Treasure Valley Aero Modelers, a non-profit association, filed an application to lease the above-described property for a runway and related improvements for flying radio-controlled model airplanes. Rental has been determined using the BLM R&PP Pricing Guidelines. Additional detailed information pertaining to this application, plan of development, and site plans are in case file IDI-34392, located in the BLM Four Rivers Field Office at the address above.

Lease of this land is consistent with the BLM Cascade Resource Management Plan, dated July 1, 1988, as amended, and would be in the public interest. The Treasure Valley Aero Modelers have not applied for more than 640 acres in a year for recreational purposes, the limit set in 43 CFR 2741.7(a)(5), and have submitted a statement in compliance with the regulations at 43 CFR 2741.4(b). Any lease will be subject to the provisions of the R&PP Act and applicable regulations of the Secretary of the Interior. Any lease of this land will be subject to valid existing rights; will contain any terms or conditions required by law or regulation, including a provision for termination upon a finding that the land has not been utilized for the purpose specified for a time period to be specified in the lease or that the land is being devoted to another use; will contain a provision prohibiting the disposal, placement, or release of any hazardous substance; and will contain an appropriate indemnification clause protecting the United States from claims arising out of the lessee's use, occupancy or operations on the leased lands. It will also contain any other terms or conditions deemed necessary or appropriate by the authorized officer. As of May 23, 2011, the above-described land is segregated from all forms of appropriation under the public land laws, including the United States mining laws, except for lease under the R&PP Act.

Public Comments: Interested parties may submit written comments involving the suitability of the land for a runway and related improvements for flying radio-controlled model airplanes. Comments transmitted via e-mail, facsimile, or other electronic means will not be accepted. Comments on the classification are restricted to whether the land is physically suited for the proposal, whether the use will maximize future uses of the land, whether the use is consistent with local planning and zoning, or if the use is consistent with State and Federal programs.

Interested parties may also submit written comments regarding the specific use proposed in the application and plan of development, whether the BLM followed proper administrative procedures in reaching its decision or any other factor not directly related to the suitability of the land for R&PP Act use.

Before including your address, phone number, e-mail address, or other personal identifying information in your comment, you should be aware that your entire comment—including your personal identifying information—may be made publicly available at any time. While you can ask us in your comment to withhold your personal identifying information from public review, we cannot guarantee that we will be able to do so.

Any adverse written comments on the proposed classification and lease will be reviewed by the BLM Idaho State Director, who may sustain, vacate or modify this realty action and classification, and issue a final determination. In the absence of any objections, the classification of the land described in this notice will become effective on July 22, 2011. The land will not be available for lease until after the classification becomes effective.

Authority: 43 CFR 2741.5.

Terry A. Humphrey,
Four Rivers Field Manager.

[FR Doc. 2011-12528 Filed 5-20-11; 8:45 am]

BILLING CODE 4310-GG-P